ENVIRONMENTAL PROTECTION AGENCY

40 CFR Parts 52

[EPA-R08-OAR-2005-CO-0002; FRL-8044-4]

Clean Air Act Approval and Promulgation of Air Quality Implementation Plan Revision for Colorado; Long-Term Strategy of State Implementation Plan for Class I Visibility Protection; Withdrawal of Direct Final Rule

AGENCY: Environmental Protection Agency (EPA).

ACTION: Withdrawal of direct final rule.

SUMMARY: On January 24, 2006 (71 FR 3773), EPA published a direct final rule to approve a revision updating the Long-Term Strategy of the State Implementation Plan (SIP) for Class I Visibility Protection, which was submitted by the Governor of Colorado with a letter dated March 24, 2005. The direct final action was published without prior proposal because EPA anticipated no adverse comments. EPA stated in the direct final rule that if we received adverse comments by February 23, 2006, the direct final rule would be withdrawn and would not take effect. EPA subsequently received timely adverse comments. Therefore, the direct final rule is being withdrawn and the comments will be addressed in a subsequent final rule based on the proposed rule also published on January 24, 2006 (71 FR 3796). EPA will not institute a second comment period on this action.

DATES: The direct final rule published on January 24, 2006 (71 FR 3773) is withdrawn as of March 14, 2006.

FOR FURTHER INFORMATION CONTACT: Amy Platt, Air and Radiation Program (8P-AR), Environmental Protection Agency, Region 8, 999 18th Street, Suite 200, Denver, Colorado 80202-2466, (303) 312-6449, Platt.Amy@epa.gov.

List of Subjects in 40 CFR Part 52

Environmental protection, Air pollution control, Carbon monoxide, Incorporation by reference, Intergovernmental relations, Nitrogen dioxide, Ozone, Particulate matter, Reporting and recordkeeping requirements, Sulfur oxides.

Dated: March 2, 2006.
Kerrigan G. Clough,
Acting Regional Administrator, Region 8.

PART 52—[AMENDED]

§ 52.320 [Amended]

Accordingly, the addition of 40 CFR 52.320(c)(108) (which published in the Federal Register on January 24, 2006 at 71 FR 3773) is withdrawn as of March 14, 2006.

[FR Doc. 06-2395 Filed 3-13-06; 8:45 am]

BILLING CODE 6560-50-P